COMMITTEE FOR PURCHASE FROM PEOPLE WHO ARE BLIND OR SEVERELY DISABLED

Procurement List; Deletions

AGENCY: Committee for Purchase from People Who Are Blind or Severely Disabled.

ACTION: Deletions from the Procurement List.

SUMMARY: This action deletes from the Procurement List products previously furnished by nonprofit agencies employing persons who are blind or have other severe disabilities.

EFFECTIVE DATE: November 11, 2007.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail: CMTEFedReg@jwod.gov.

SUPPLEMENTARY INFORMATION:

Deletions

On August 17, 2007, the Committee for Purchase From People Who Are Blind or Severely Disabled published notice (72 FR 46208) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

NSN: 8910-01-E60-8830—Cottage Cheese, Dehydrated—#10 cans.

NSN: 8910-01-E60-8831—Whole Egg Crystals—1.75 pound bags.

NPA: Advocacy and Resources Corporation, Cookeville, TN.

Pillowcase, Cotton/Cotton Polyester

NSN: 7210-00-119-7356.

NPA: Alabama Industries for the Blind, Talladega, AL.

NPA: The Lighthouse f/t Blind in New Orleans, New Orleans, LA.

Contracting Activity: Defense Supply Center Philadelphia, Philadelphia, PA.

Metal Strip, Bag Tie, Plain

NSN: 8135-00-846-8409.

NPA: United Cerebral Palsy of Broward County, Inc., Ft. Lauderdale, FL.

Refill Pen, Rollerball, Executive

NSN: 7510-01-425-5710.

NPA: San Antonio Lighthouse for the Blind, San Antonio, TX.

Contracting Activity: General Services Administration, Office Supplies & Paper Products Acquisition Ctr, New York, NY.

Kimberly M. Zeich,
Director, Program Operations.

[FR Doc. E7-20148 Filed 10-11-07; 8:45 am]

BILLING CODE 6353-01-P